DEPARTMENT OF COMMERCE

International Trade Administration

United States Travel and Tourism Promotion Advisory Board

AGENCY: International Trade Administration, Department of Commerce.

ACTION: Notice of open meeting.

Date: December 8, 2003.

Time: 11 a.m.-3:30 p.m.

Place: Hyatt Regency Denver, Mt. Elbert Room, 1750 Welton Street, Denver, CO 80202.

SUMMARY: The United States Travel and Tourism Promotion Advisory Board (“Board”) will hold a Board meeting on December 8, 2003 at the Hyatt Regency Denver.

The Board will discuss the design, development and subsequent implementation of an international advertising and promotional campaign, which will seek to encourage individuals from select countries to travel to the United States. The meeting will be open to the public. Time will be permitted for public comment. To sign up for public comment, please contact Julie Heizer by 5 p.m. EST, on Friday, December 5, 2003. She may be contacted at U.S. Department of Commerce, 1401 Constitution Avenue, NW., Room 7025, Washington, DC 20230; via fax at (202) 482-2887; or, via e-mail at promotion@tinet.ita.doc.gov.

Written comments concerning Board affairs are welcome anytime before or after the meeting. Written comments should be directed to Julie Heizer. Minutes will be available within 30 days of this meeting.

The Board is mandated by Public Law 108-7, Section 210. As directed by Public Law 108-7, Section 210, the Secretary of Commerce shall design, develop and implement an international advertising and promotional campaign, which seeks to encourage individuals to travel to the United States. The Board shall recommend to the Secretary of Commerce the appropriate coordinated activities for funding. This campaign shall be a multi-media effort that seeks to leverage the Federal dollars with contributions of cash and in-kind products unique to the travel and tourism industry. The Board was chartered in August of 2003 and will expire on August 8, 2005.

For further information, phone Julie Heizer, Office of Travel and Tourism Industries (OTTI), International Trade Administration, U.S. Department of Commerce at (202) 482-4904. This meeting is physically accessible to people with disabilities. Requests for sign language interpretation or other auxiliary aids should be directed to OTTI.

Dated: November 18, 2003.
Cary G. Justice,
Special Assistant, Office of Service Industries, Tourism, and Finance.

[FR Doc. 03-29172 Filed 11-20-03; 8:45 am]

BILLING CODE 3510-DS-P